DEPARTMENT OF EDUCATION

34 CFR Part 81

[Docket ID ED-2021-OFO-0121]

RIN 1880-AA91

Standardizing Filing Procedures for Administrative Appeals; Correction

AGENCY: Office of Finance and Operations, Department of Education.

ACTION: Technical amendment.

SUMMARY: On September 23, 2021, the Department of Education published in the Federal Register final regulations for Standardizing Filing Procedures for Administrative Appeals. This document corrects an error to the regulatory text in the final regulations.

DATES: The correction to these final regulations is effective March 1, 2022.

FOR FURTHER INFORMATION CONTACT: George Abbott, 400 Maryland Avenue SW, Room 10089, Potomac Center Plaza, Washington, DC 20202. Telephone: (202) 245-8300. Email: George.Abbott@ed.gov.

If you use a telecommunications device for the deaf (TDD) or a text telephone (TTY), call the Federal Relay Service (FRS), toll free, at 1-800-877-8339.

SUPPLEMENTARY INFORMATION: This document corrects an error in FR Doc. 2021-20304 that published in the Federal Register on September 23, 2021 (86 FR 52829). Due to a technical error, paragraph (b)(3) was not added to 34 CFR 81.20. This technical amendment adds paragraph (b)(3) to § 81.20.

Waiver of Proposed Rulemaking

In accordance with the Administrative Procedure Act, 5 U.S.C. 553, it is the Secretary's practice to offer interested parties the opportunity to comment on proposed regulations. However, the regulatory changes in this document are necessary to correct an error and do not establish any new substantive rules. Therefore, the Secretary has determined that publication of a proposed rule is unnecessary under 5 U.S.C. 553(b)(B).

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

List of Subjects in 34 CFR Part 81

Administrative practice and procedure, Grant programs—education.

Denise L. Carter,
Acting Assistant Secretary, Office of Finance and Operations.

For the reasons set out in the preamble to FR Doc. 2021-20304, published in the Federal Register on September 23, 2021 (86 FR 52829), the Department of Education makes the following technical amendment to 34 CFR part 81.

PART 81—GENERAL EDUCATION PROVISIONS ACT—ENFORCEMENT

1. The authority citation for part 81 continues to read as follows:

Authority: 20 U.S.C. 1221e-3, 1234-1234i, and 3474(a), unless otherwise noted.

2. Amend § 81.20 by:

a. Adding paragraph (b)(3); and

b. Removing the parenthetical authority citation at the end of the section.

The addition reads as follows:

§ 81.20 Interlocutory appeals to the Secretary from rulings of an ALJ.

* * * * *

(b) * * *

(3)(i) The petition must be filed electronically, and served upon the ALJ and other parties, by submission to OES on behalf of the Office of the Secretary unless a party shows the Secretary good cause why the petition cannot be filed electronically.

(ii) If the Secretary permits a party to file a petition in paper format, the filing party must file the petition with the Office of Hearings and Appeals (OHA) on behalf of the Secretary by hand-delivery or regular mail. The filing party must provide a copy of the petition to the ALJ at the time the petition is filed, and a copy of the petition must be served upon the other parties by hand-delivery or regular mail.

* * * * *

[FR Doc. 2022-04201 Filed 2-28-22; 8:45 am]

BILLING CODE 4000-01-P